DEPARTMENT OF TRANSPORTATION

Federal Aviation Administration

14 CFR Part 39

[Docket No. FAA-2025-1719; Project Identifier AD-2024-00382-T]

RIN 2120-AA64

Airworthiness Directives; The Boeing Company Airplanes

AGENCY: Federal Aviation Administration (FAA), DOT.

ACTION: Notice of proposed rulemaking (NPRM).

SUMMARY: The FAA proposes to adopt a new airworthiness directive (AD) for certain The Boeing Company Model 767-200 and 767-300 series airplanes. This proposed AD was prompted by reports of scribe lines found at skin lap joints and butt joints, around external repairs and antennas, and at locations where external decals had been cut. For some airplanes, this proposed AD would require a detailed inspection for scribe lines and applicable related investigative and corrective actions. For other airplanes, this AD would require repetitive nondestructive testing inspections for cracking at certain stringers of the skin lap joint fuselage skin and applicable corrective actions. The FAA is proposing this AD to address the unsafe condition on these products.

DATES: The FAA must receive comments on this proposed AD by September 8, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-1719; or in person at Docket Operations between 9 a.m. and 5 p.m., Monday through Friday, except Federal holidays. The AD docket contains this NPRM, any comments received, and other information. The street address for Docket Operations is listed above.

Material Incorporated by Reference:

• For Boeing material identified in this proposed AD, contact Boeing Commercial Airplanes, Attention: Contractual & Data Services (C&DS), 2600 Westminster Blvd., MC 110-SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2025-1719.

FOR FURTHER INFORMATION CONTACT: Stefanie Roesli, Aviation Safety Engineer, FAA, 2200 South 216th St., Des Moines, WA 98198; phone: 206-231-3964; email: stefanie.n.roesli@faa.gov.

SUPPLEMENTARY INFORMATION:

Comments Invited

The FAA invites you to send any written relevant data, views, or arguments about this proposal. Send your comments to an address listed under the ADDRESSES section. Include “Docket No. FAA-2025-1719; Project Identifier AD-2024-00382-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Stefanie Roesli, Aviation Safety Engineer, FAA, 2200 South 216th St., Des Moines, WA 98198; phone: 206-231-3964; email: stefanie.n.roesli@faa.gov. Any commentary that the FAA receives that is not specifically designated as CBI will be placed in the public docket for this rulemaking.

Background

AD 2010-06-16, Amendment 39-16241 (75 FR 12670, March 17, 2010) (AD 2010-06-16), applies to certain Model 767-200, -300, -300F, and -400ER series airplanes. AD 2010-06-16 was prompted by a report indicating that scribe lines were found at skin lap joints and butt joints, around external repairs and antennas, and at locations where external decals had been cut. AD 2010-06-16 requires inspections for scribe lines in the fuselage skin at skin lap joints, the skin at certain external approved repairs, the skin around external features such as antennas, and the skin at decals, and applicable related investigative and corrective actions, as specified in Boeing Alert Service Bulletin 767-53A0193, Revision 1, dated April 9, 2009. The FAA issued AD 2010-06-16 to prevent fatigue cracks in the skin, which could result in sudden decompression of the airplane.

Since AD 2010-06-16 was issued, the FAA has determined that these actions need to be done at reduced compliance times on airplanes modified using certain supplemental type certificate (STCs): Model 767-200 airplanes converted to a special freighter by STC ST01433SE; and Model 767-300 airplanes converted to a special freighter by STC ST02040SE. The FAA has determined that, for the STC-modified airplanes, loads on the skin throughout the airplane are changed following the STC conversion and therefore cracking could occur earlier than expected. As a result, all initial compliance times in Boeing Alert Service Bulletin 767-53A0193, Revision 3, dated June 27, 2024, must be reduced by a factor of 0.60 for Model 767-200 series airplanes and a factor of 0.46 for Model 767-300 series airplanes, and all repetitive intervals must be reduced by a factor of 0.10 for both Model 767-200 and 767-300 series airplanes. Because the actions in Boeing Alert Service Bulletin 767-53A0193, Revision 3, dated June 27, 2024, are substantively the same as the actions in Boeing Alert Service Bulletin 767 53A0193, Revision 1, dated April 9, 2009, for the STC-modified airplanes, accomplishing the initial actions required by this proposed AD would terminate the requirements of AD 2010-06-16.

The FAA has also received a report indicating that freighter modifications done to airplanes identified as Group 13 and Group 14 in Boeing Alert Service Bulletin 767-53A0193, Revision 3, dated June 27, 2024, have multiple modified lap splice locations, as well as additional external doublers, skin replacements, and door cutouts. The modified parts could hide pre-existing scribe lines that if undetected, could turn into undetected cracks in the fuselage skin. These groups were added to Boeing Alert Service Bulletin 767-53A0193, Revision 3, dated June 27, 2024, since these modifications prevent accomplishment of the actions required by AD 2010-06-16 on these airplanes. The FAA has determined that in addition to the actions in AD 2010-06-16, repetitive nondestructive inspections are necessary to address the unsafe condition on Group 13 and 14 airplanes.

FAA's Determination

The FAA is issuing this NPRM after determining that the unsafe condition described previously is likely to exist or develop on other products of the same type design.

Material Incorporated by Reference Under 1 CFR Part 51

The FAA reviewed Boeing Alert Service Bulletin 767-53A0193, Revision 3, dated June 27, 2024. This material specifies the following inspections and applicable related investigative and corrective actions:

• Repetitive detailed inspections to detect scribe lines along applicable skin lap joints, skin butt joints, external approved repairs, external features, decals, and fairings.

• Removal of paint and sealant from affected areas before the initial detailed inspection.

• Related investigative actions, including low- or high-frequency eddy current or ultrasonic inspections of the scribe lines to detect cracks.

• Corrective actions of either repairing scribe lines and cracks or contacting Boeing for repair instructions and doing the repair.

• Repair of scribe lines before further flight, except when a limited return to service (LRTS) program for qualifying scribe lines would allow return to service for a limited period before scribe lines are repaired. The LRTS program includes repetitive inspections to detect cracks where scribe lines are found. To qualify for an LRTS program, scribe lines must meet certain criteria based on their depth and location.

• Contacting Boeing for final repair instructions, which would eliminate the need for the repetitive inspections of the LRTS program.

This material notes that certain inspections would not be required under the following conditions, depending on location:

• The airplane had never been stripped or repainted.

• The airplane had never been stripped or repainted under the wing-to-body fairings.

• Correct sealant removal procedures have been used at all times since delivery.

This material also specifies procedures for nondestructive testing inspections for cracking of the skin lap joint fuselage skin at stringers S26L and S8R between station (STA) 434 and STA 676 (for Group 13 airplanes), and at S-26L, S-8R, and S-2R between STA 434 and STA 654+121 (for Group 14 airplanes).

This material is reasonably available because the interested parties have access to it through their normal course of business or by the means identified in the ADDRESSES section.

Proposed AD Requirements in This NPRM

This proposed AD would require accomplishing the actions specified in the material already described, except for any differences identified as exceptions in the regulatory text of this proposed AD. For certain airplanes, accomplishing the initial actions required by paragraph (h) of this proposed AD would terminate the requirements of AD 2010-06-16. See “Difference Between the Service Information and this Proposed AD” for a discussion of these differences. For information on the compliance times and procedures, see this material at regulations.gov by searching for and locating Docket No. FAA-2025-1719.

Difference Between the Service Information and This Proposed AD

For airplanes modified by STC ST01433SE or STC ST02040SE, this proposed AD would require reducing the initial compliance times by a factor of 0.60 for Model 767-200 series airplanes and by a factor of 0.46 for Model 767-300 series airplanes and reducing the repetitive intervals by a factor of 0.10 for both Model 767-200 and 767-300 series airplanes.

Costs of Compliance

The FAA estimates that this AD, if adopted as proposed, would affect 3 airplanes of U.S. registry. The FAA estimates the following costs to comply with this proposed AD:

Estimated Costs
Action | Labor cost | Parts cost | Cost per product | Cost on U.S. operators
Inspection | Up to 340 work-hours × $85 per hour = $28,900 | $0 | Up to $28,900 per inspection cycle | Up to $86,700 per inspection cycle

The extent of scribe lines found during the inspections could vary significantly from airplane to airplane. The FAA has no way of determining the extent of scribe lines found on each airplane, the cost to repair each airplane, or the number of airplanes that may require repair.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

The Boeing Company: Docket No. FAA-2025-1719; Project Identifier AD-2024-00382-T.

(a) Comments Due Date

The FAA must receive comments on this airworthiness directive (AD) by September 8, 2025.

(b) Affected ADs

This AD affects AD 2010-06-16, Amendment 39-16241 (75 FR 12670, March 17, 2010) (AD 2010-06-16).

(c) Applicability

This AD applies to The Boeing Company Model 767-200 and 767-300 series airplanes, certificated in any category, listed in paragraphs (c)(1) through (3) of this AD.

(1) Airplanes identified as Group 13 and 14 in Boeing Alert Service Bulletin 767-53A0193, Revision 3, dated June 27, 2024.

(2) Model 767-200 series airplanes converted to a special freighter by Supplemental Type Certificate (STC) ST01433SE.

(3) Model 767-300 series airplanes converted to a special freighter by STC ST02040SE.

(d) Subject

Air Transport Association (ATA) of America Code 53, Fuselage.

(e) Unsafe Condition

This AD was prompted by reports of scribe lines found at skin lap joints and butt joints, around external repairs and antennas, and at locations where external decals had been cut. The FAA is issuing this AD to address scribe lines, which could develop into fatigue cracks in the skin and cause rapid decompression of the airplane.

(f) Compliance

Comply with this AD within the compliance times specified, unless already done.

(g) Required Actions: Group 13 and 14 Airplanes

For airplanes identified in paragraph (c)(1) of this AD: Except as specified in paragraphs (i)(1) and (2) of this AD, at the applicable times specified in tables 1.1 and 1.2 under the “Compliance” paragraph of Boeing Alert Service Bulletin 767-53A0193, Revision 3, dated June 27, 2024, do the actions specified in, and in accordance with, the “Action” column and footnotes of tables 1.1 and 1.2 under the “Compliance” paragraph of Boeing Alert Service Bulletin 767-53A0193, Revision 3, dated June 27, 2024.

(h) Required Actions: STC-Modified Airplanes

For airplanes identified in paragraphs (c)(2) and (3) of this AD: Except as specified in paragraphs (i)(2) through (5) of this AD, at the applicable times specified in the “Compliance” paragraph of Boeing Alert Service Bulletin 767-53A0193, Revision 3, dated June 27, 2024, do detailed inspections for scribe lines of skin lap joints around external repairs and antennas and at locations where external decals might have been cut, and do all applicable related investigative and corrective actions, by accomplishing all applicable actions specified in the Accomplishment Instructions of Boeing Alert Service Bulletin 767-53A0193, Revision 3, dated June 27, 2024. The inspection exemptions noted in the “Compliance” paragraph of Boeing Alert Service Bulletin 767-53A0193, Revision 3, dated June 27, 2024, apply to this AD.

(i) Exceptions to Service Bulletin Specifications

(1) Where the Compliance Time columns in tables 1.1 and 1.2 under the “Compliance” paragraph of Boeing Alert Service Bulletin 767-53A0193, Revision 3, dated June 27, 2024, refer to the “revision 03 issue date of this service bulletin,” this AD requires using the effective date of this AD.

(2) Where Boeing Alert Service Bulletin 767-53A0193, Revision 3, dated June 27, 2024, specifies contacting Boeing for repair instructions, this AD requires doing the repair using a method approved in accordance with the procedures in paragraph (j) of this AD.

(3) Where the Compliance Time columns in the tables under the “Compliance” paragraph of Boeing Alert Service Bulletin 767-53A0193, Revision 3, dated June 27, 2024, refer to the “the original issue date on this service bulletin,” this AD requires using the effective date of this AD.

(4) For airplanes identified in paragraph (c)(2) of this AD: Reduce the compliance times specified in Boeing Alert Service Bulletin 767-53A0193, Revision 3, dated June 27, 2024, by a factor of 0.60 for the initial compliance time and 0.10 for the repetitive intervals (i.e., the new compliance times are 60% of the original initial compliance time and 10% of the original repetitive interval).

Note 1 to paragraph (i)(4): For example, an initial compliance time of 25,000 total flight cycles is reduced to 15,000 total flight cycles (i.e., 25,000 × 0.60 = 15,000).

(5) For airplanes identified in paragraph (c)(3) of this AD: Reduce the compliance times specified in Boeing Alert Service Bulletin 767 53A0193, Revision 3, dated June 27, 2024, by a factor of 0.46 for the initial compliance time and 0.10 for the repetitive intervals (i.e., the new compliance times are 46% of the original initial compliance time and 10% of the original repetitive interval).

Note 2 to paragraph (i)(5): For example, an initial compliance time of 25,000 total flight cycles is reduced to 11,500 total flight cycles (i.e., 25,000 × 0.46 = 11,500).

(j) Terminating Action for STC-Modified Airplanes

For airplanes identified in paragraphs (c)(2) and (3) of this AD: Accomplishing the initial actions required by paragraph (h) of this AD terminates the requirements of AD 2010-06-16.

(k) Credit for Previous Actions

For airplanes identified in paragraphs (c)(2) and (3) of this AD: This paragraph provides credit for the actions required by paragraph (h) of this AD, if those actions were performed before the effective date of this AD using Boeing Alert Service Bulletin 767-53A0193, Revision 2, dated August 26, 2010.

(l) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (m)(1) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(m) Related Information

(1) For more information about this AD, contact Stefanie Roesli, Aviation Safety Engineer, FAA, 2200 South 216th St., Des Moines, WA 98198; phone: 206-231-3964; email: stefanie.n.roesli@faa.gov.

(2) Material identified in this AD that is not incorporated by reference is available at the address specified in paragraph (n)(3) of this AD.

(n) Material Incorporated by Reference

(1) The Director of the Federal Register approved the incorporation by reference of the material listed in this paragraph under 5 U.S.C. 552(a) and 1 CFR part 51.

(2) You must use this material as applicable to do the actions required by this AD, unless the AD specifies otherwise.

(i) Boeing Alert Service Bulletin 767-53A0193, Revision 3, dated June 27, 2024.

(ii) [Reserved]

(3) For Boeing material identified in this AD, contact Boeing Commercial Airplanes, Attention: Contractual & Data Services (C&DS), 2600 Westminster Blvd., MC 110-SK57, Seal Beach, CA 90740-5600; telephone 562-797-1717; website myboeingfleet.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on July 18, 2025.
Lona C. Saccomando,
Acting Deputy Director, Integrated Certificate Management Division, Aircraft Certification Service.

[FR Doc. 2025-13865 Filed 7-22-25; 8:45 am]

BILLING CODE 4910-13-P